DEPARTMENT OF TRANSPORTATION

Federal Aviation Administration

14 CFR Part 39

[Docket No. FAA-2007-0096; Directorate Identifier 2007-NE-39-AD]

RIN 2120-AA64

Airworthiness Directives; Honeywell International Inc. ALF502 Series and LF507 Series Turbofan Engines

AGENCY: Federal Aviation Administration (FAA), Department of Transportation (DOT).

ACTION: Notice of proposed rulemaking (NPRM).

SUMMARY: The FAA proposes to supersede an existing airworthiness directive (AD) for Honeywell International Inc. ALF502 series and LF507 series turbofan engines with certain fuel manifold assemblies installed. That AD currently requires initial and repetitive on-wing eddy current or in-shop fluorescent penetrant inspections of certain part number (P/N) fuel manifold assemblies for cracks, and replacement of cracked fuel manifolds with serviceable manifolds. This proposed AD would continue to require inspecting those fuel manifolds for cracks, would also add leak checks of certain additional P/N fuel manifolds, and would specify replacement of the affected manifolds as an optional terminating action in lieu of the repetitive inspections. This proposed AD results from reports of fire in the engine nacelle. We are proposing this AD to detect cracks in certain fuel manifolds and fuel leaks from other fuel manifolds, which could result in a fire in the engine nacelle and a hazard to the aircraft.

DATES: We must receive any comments on this proposed AD by June 12, 2009.

ADDRESSES: Use one of the following addresses to comment on this proposed AD.

• Government-wide rulemaking Web site: Go to http://www.regulations.gov and follow the instructions for sending your comments electronically.

• Mail: Docket Management Facility, U.S. Department of Transportation, West Building Ground Floor, Room W12-140, 1200 New Jersey Avenue, SE., Washington, DC 20590-0001.

• Hand Delivery: Deliver to Mail address above between 9 a.m. and 5 p.m., Monday through Friday, except Federal holidays.

• Fax: (202) 493-2251.

You can get the service information identified in this proposed AD from Honeywell International, Inc., 111 S 34th St., Phoenix, AZ 85034-2802, U.S.A.; telephone (800) 601-3099.

FOR FURTHER INFORMATION CONTACT: Robert Baitoo, Aerospace Engineer, Los Angeles Aircraft Certification Office, FAA, Transport Airplane Directorate, 3960 Paramount Blvd., Lakewood, CA 90712-4137; e-mail: robert.baitoo@faa.gov; telephone (562) 627-5245; fax (562) 627-5210.

SUPPLEMENTARY INFORMATION:

Comments Invited

We invite you to send us any written relevant data, views, or arguments regarding this proposal. Send your comments to an address listed under ADDRESSES. Include “Docket No. FAA-2007-0096; Directorate Identifier 2007-NE-39-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

The FAA proposes to amend 14 CFR part 39 by superseding AD 97-11-05, Amendment 39-10034 (62 FR 28994, May 29, 1997). That AD requires initial and repetitive on-wing eddy current inspection (ECI) or in-shop fluorescent penetrant inspection (FPI) of fuel manifold assemblies for cracks, and replacement of cracked fuel manifolds with serviceable manifolds. In addition, that action proposed an optional terminating action to the repetitive inspections by replacing the fuel manifold assembly with an assembly of a new, improved design, P/N 2-163-620-37 or 2-163-620-38. That AD resulted from reports of cracking of the fuel manifold assembly at the No. 5 scallop location. That condition, if not corrected, could result in fuel leaking from the manifold and a fire in the engine nacelle.

Actions Since AD 97-11-05 Was Issued

Since we issued that AD, we have received reports of about 36 events of fuel leaking at the fuel nozzles on fuel manifold assemblies, P/Ns 2-163-620-37 and 2-163-620-38, due to loosening of the fuel nozzles. Failure to detect and remove a leaking manifold assembly is likely to result in a fire in the engine nacelle and create a hazard to the aircraft.

FAA's Determination and Requirements of the Proposed AD

We have evaluated all pertinent information and identified an unsafe condition that is likely to exist or develop on other products of this same type design. We are proposing this AD, which would require:

• For fuel manifold assemblies, P/Ns 2-163-620-37 or 2-163-620-38, with 1,800 or more cycles-since-new or cycles-since-overhaul, inspecting for leaks per paragraph (g) of this AD, within 300 cycles-in-service after the effective date of this AD, and

• Repeating the inspection within 600 cycles-since-last inspection, and

• Replacing each leaking fuel manifold assembly with a serviceable manifold.

Costs of Compliance

We estimate that this proposed AD would affect 156 engines installed on airplanes of U.S. registry. We also estimate that it would take about 7 work-hours per engine to perform the proposed actions, and that the average labor rate is $80 per work-hour. Required parts would cost about $50,000 per engine. Based on these figures, we estimate the total cost of the proposed AD to U.S. operators to be $7,887,360.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-10034 (62 FR 28994, May 29, 1997) and by adding a new airworthiness directive to read as follows:

Honeywell International Inc. (Formerly AlliedSignal and Textron-Lycoming): Docket No. FAA-2007-0096; Directorate Identifier 2007-NE-39-AD.

Comments Due Date

(a) The Federal Aviation Administration (FAA) must receive comments on this airworthiness directive (AD) action by June 12, 2009.

Affected ADs

(b) Supersedes AD 97-11-05, Amendment 39-10034.

Applicability

(c) This AD applies to Honeywell International Inc. ALF502L and ALF502R series, and LF507-1F and LF507-1H turbofan engines with fuel manifolds, part numbers (P/Ns) 2-163-620-9, 2-163-620-10, 2-163-620-17, 2-163-620-18, 2-163-620-23, 2-163-620-24, 2-163-620-25, 2-163-620-26, 2-163-620-27, 2-163-620-28, 2-163-620-33, 2-163-620-34, 2-163-620-35, 2-163-620-36, 2-163-620-37, or 2-163-620-38 installed. These engines are installed on, but not limited to, Bombardier CL-600-1A11 and BAE Systems 146-100/A, -200/A, and -300/A, and AVRO 146-RJ70A, -RJ85A, and -RJ100A airplanes.

Unsafe Condition

(d) This AD results from reports of fire in the engine nacelle. We are issuing this AD to detect cracks in certain fuel manifolds and fuel leaks from other fuel manifolds, which could result in a fire in the engine nacelle and a hazard to the aircraft.

Compliance

(e) You are responsible for having the actions required by this AD performed within the compliance times specified unless the actions have already been done.

Initial Inspection for Cracks in Fuel Manifold Assemblies That Have a P/N Listed in Paragraph (c) of This AD, Except P/Ns 2-163-620-37 or 2-163-620-38

(f) Using the following compliance times, perform initial and repetitive on-wing eddy current inspections (ECI) or in-shop fluorescent penetrant inspections (FPI) of fuel manifold assemblies having a P/N listed in the paragraph (c) of this AD, except P/Ns 2-163-620-37 or 2-163-620-38. Use paragraphs 2.A.(1) through 2.A.(3)(d) of the accomplishment instructions of Honeywell International Inc. Service Bulletin (SB) ALF/LF 73-1002, Revision 1, dated March 24, 1997 or original issue dated December 22, 1995, to perform the inspections.

(1) For ALF502L series engines:

(i) For fuel manifold assemblies with 3,250 or more cycles since new (CSN) or unknown CSN on July 28, 1997 (the effective date of AD 97-11-05), inspect at the next hot section inspection (HSI), or 2,000 cycles-in-service (CIS) after July 28, 1997, whichever occurs first.

(ii) For fuel manifold assemblies with less than 3,250 CSN on July 28, 1997, inspect at the next HSI or before accumulating 5,250 CSN, whichever occurs first.

(iii) Thereafter, inspect at HSI intervals not to exceed 2,000 cycles-since-last inspection (CSLI).

(iv) If a fuel manifold assembly is found cracked, prior to further flight, replace the fuel manifold assembly with an FAA approved serviceable assembly.

(2) For ALF502R and LF507 series engines:

(i) For fuel manifold assemblies with 3,250 or more CSN, or unknown CSN, on July 28, 1997, inspect within 1,250 CIS after July 28, 1997.

(ii) For fuel manifold assemblies with less than 3,250 CSN on July 28, 1997, inspect prior to accumulating 4,500 CSN.

(iii) Thereafter, inspect at intervals not to exceed 1,250 CSLI.

(iv) If a fuel manifold assembly is found cracked, before further flight replace the fuel manifold assembly with an FAA approved serviceable assembly.

Initial Inspection for Fuel Leaks, Fuel Manifold Assemblies, P/Ns 2-163-620-37 or 2-163-620-38

(g) For fuel manifold assemblies, P/Ns 2-163-620-37 or 2-163-620-38, with 1,800 or more CSN or cycles-since-overhaul (CSO), inspect for leaks within 300 CIS after the effective date of this AD as follows:

(1) Start engine and let stabilize at ground idle.

(2) With the engine operating, look for fuel leaking from the fuel manifold assembly to the fire shield interface area (see Figure 1). No leaks allowed.

(3) If you find any leaks, shut down the engine and replace the fuel manifold assembly with an FAA approved serviceable assembly.

(4) Shut down engine.

(5) Look for fuel leaking from the fuel manifold assembly to the fire shield interface area (see Figure 1.) No leaks allowed.

(6) If you find any leaks, replace the fuel manifold assembly with an FAA approved serviceable assembly.

Repetitive Inspection for Fuel Leaks, Fuel Manifold Assemblies P/Ns 2-163-620-37 and 2-163-620-38

(h) Thereafter, within 600 CSLI, inspect fuel manifold assemblies, P/Ns 2-163-620-37 and 2-163-620-38, for leaks as specified in paragraphs (g)(1) through (g)(6) of this AD.

Optional Terminating Action

(i) Replacing a fuel manifold assembly that has a P/N specified in paragraph (c) of this AD, with a fuel manifold assembly, P/N 2-163-620-39, 2-163-620-40, 2-163-620-41, or 2-163-620-42, or an FAA-approved equivalent part, terminates the repetitive inspection requirement specified in paragraphs (f)(1)(iii), (f)(2)(iii), (g), and (h) of this AD.

Alternative Methods of Compliance

(j) The Manager, Los Angeles Certification Office, has the authority to approve alternative methods of compliance for this AD if requested using the procedures found in 14 CFR 39.19.

Related Information

(k) Honeywell International Inc. Alert Service Bulletin ALF/LF-A72-1084, Revision 2, dated October 10, 2007, and SB ALF/LF 73-1002, Revision 1, dated March 24, 1997, and SB ALF/LF 72-1094, dated April 30, 2004, contains the information necessary to inspect and replace any leaking fuel manifolds.

(l) Contact Robert Baitoo, Aerospace Engineer, Los Angeles Aircraft Certification Office, FAA, Transport Airplane Directorate, 3960 Paramount Blvd., Lakewood, CA 90712-4137; e-mail: robert.baitoo@faa.gov; telephone: (562) 627-5245; fax: (562) 627-5210, for more information about this AD.

Issued in Burlington, Massachusetts, on April 6, 2009.
Peter A. White,
Assistant Manager, Engine and Propeller Directorate, Aircraft Certification Service.

[FR Doc. E9-8308 Filed 4-10-09; 8:45 am]

BILLING CODE 4910-13-P